DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472 (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground modified | Communities affected
Cherokee County, North Carolina and Incorporated Areas
Docket No.: FEMA-D-7824
Bates Creek | At the confluence with Hanging Dog Creek | +1,529 | Unincorporated Areas of Cherokee County, Eastern Band of Cherokee Indians.
| Approximately 0.8 mile upstream of the confluence with Hanging Dog Creek | +1,633
Bearpaw Creek | At the confluence with Hiwassee River | +1,529 | Unincorporated Areas of Cherokee County.
| Approximately 80 feet downstream of Lower Bear Paw Road (State Road 1312) | +1,534
Beaverdam Creek | At the confluence with Hiwassee River | +1,529 | Unincorporated Areas of Cherokee County.
| Approximately 70 feet downstream of the confluence of Cook Creek | +1,734
Beech Creek | At the confluence with Hiwassee River | +1,529 | Unincorporated Areas of Cherokee County.
| Approximately 2.4 miles upstream of the confluence with Hiwassee River | +1,548
Brasstown Creek | At the confluence with Hiwassee River | +1,587 | Unincorporated Areas of Cherokee County.
| Approximately 0.4 mile upstream of Brasstown Road | +1,605
Brown Creek | At the confluence with Valley River | +1,692 | Unincorporated Areas of Cherokee County.
| Approximately 0.6 mile upstream of the confluence with Valley River | +1,709
Cane Creek | At the confluence with Nottely River | +1,529 | Unincorporated Areas of Cherokee County.
| Approximately 0.9 mile upstream of U.S. Highway 64 | +1,536
Chambers Creek | At the confluence with Hiwassee River | +1,529 | Unincorporated Areas of Cherokee County.
| Approximately 1.7 miles upstream of the confluence with Hiwassee River | +1,534
Davis Creek | At the confluence with Hanging Dog Creek | +1,767 | Unincorporated Areas of Cherokee County.
| Approximately 20 feet downstream of the confluence with Dockey Creek and Bald Creek | +2,054
Grape Creek | At the confluence with Hiwassee River | +1,529 | Unincorporated Areas of Cherokee County.
| Approximately 0.9 mile upstream of Joe Brown Highway (State Road 1326) | +1,530
Hanging Dog Creek | At the confluence with Hiwassee River | +1,529 | Unincorporated Areas of Cherokee County, Eastern Band of Cherokee Indians.
| Approximately 1,300 feet upstream of Running Deer Lane | +1,914
Hiwassee River | Approximately 1.5 miles downstream of Apalachia Lake Dam | +1,162 | Unincorporated Areas of Cherokee County, Town of Murphy.
| Approximately 875 feet downstream of Mission Dam | +1,620
Junaluska Creek | At the confluence with Valley River | +1,783 | Unincorporated Areas of Cherokee County, Town of Andrews.
| At the confluence of Bear Branch | +2,169
Little Brasstown Creek | At the confluence with Brasstown Creek | +1,605 | Unincorporated Areas of Cherokee County.
| Approximately 1.8 miles upstream of Folk School Road (State Road 1565) | +1,627
Martin Creek | At the confluence with Hiwassee River | +1,534 | Unincorporated Areas of Cherokee County.
| Approximately 1,740 feet upstream of Brasstown Road (State Road 1564) | +1,655
McClellan Creek | At the confluence with Tatham Creek | +1,852 | Unincorporated Areas of Cherokee County.
| Approximately 1,200 feet upstream of Pisgah Road (State Road 1507) | +1,903
Morgan Creek | At the confluence with Valley River | +1,594 | Unincorporated Areas of Cherokee County.
| Approximately 0.5 mile upstream of the confluence with Valley River | +1,601
Nottely River | At the confluence with Hiwassee River | +1,529 | Unincorporated Areas of Cherokee County.
| Approximately 2.2 miles downstream of U.S. Highway 64 | +1,534
Owl Creek | At the confluence with Hanging Dog Creek | +1,677 | Unincorporated Areas of Cherokee County.
| Approximately 0.5 mile upstream of Owl Creek Road (State Road 1340) | +1,904
Peachtree Creek | At the confluence with Hiwassee River | +1,564 | Unincorporated Areas of Cherokee County.
| Approximately 0.5 mile upstream of Upper Peachtree Road (State Road 1535) | +1,798
Persimmon Creek | At the confluence with Hiwassee River | +1,529 | Unincorporated Areas of Cherokee County.
| Approximately 440 feet upstream of U.S. Highway 64 | +1,821
Phillips Creek | At the confluence with Tatham Creek | +1,852 | Unincorporated Areas of Cherokee County.
| Approximately 1,610 feet upstream of Sunflower Lane | +2,360
Rapier Mill Creek | Approximately 0.6 mile upstream of the confluence with Nottely River | +1,571 | Unincorporated Areas of Cherokee County.
| At the confluence of South Fork Rapier Mill Creek | +1,596
Ricket Branch | At the confluence with Valley River | +1,679 | Unincorporated Areas of Cherokee County.
| Approximately 200 feet downstream of Airport Road (State Road 1428) | +1,706
Rogers Creek | At the confluence with Valley River | +1,572 | Unincorporated Areas of Cherokee County.
| Approximately 0.7 mile upstream of the confluence with Valley River | +1,594
Slow Creek | Approximately 75 feet downstream of the downstream most crossing of Canyon Road (State Road 1527) | +1,678 | Unincorporated Areas of Cherokee County.
| Approximately 660 feet upstream of the upstream most crossing of Canyon Road (State Road 1527) | +1,727
South Fork Rapier Mill Creek | At the confluence with Rapier Mill Creek | +1,596 | Unincorporated Areas of Cherokee County.
| Approximately 1.9 miles upstream of State Route 60 | +1,674
South Shoal Creek | At the confluence with Hiwassee River | +1,282 | Unincorporated Areas of Cherokee County.
| Approximately 2.7 miles upstream of Shoal Creek Road (State Road 1145) | +1,972
Tatham Creek | At the confluence with Valley River | +1,772 | Unincorporated Areas of Cherokee County, Town of Andrews.
| At the confluence of McClellan Creek and Phillips Creek | +1,852
Valley River | At the confluence with Hiwassee River | +1,530 | Unincorporated Areas of Cherokee County, Town of Andrews, Town of Murphy.
| Approximately 1.0 mile upstream of Cherokee Avenue | +3,678
Whitiaker Branch | At the confluence with Valley River | +1,696 | Unincorporated Areas of Cherokee County.
| Approximately 0.8 mile upstream of the confluence with Valley River | +1,715
Worm Creek | At the confluence with Valley River | +1,825 | Unincorporated Areas of Cherokee County.
| Approximately 0.9 mile upstream of Robinson Road (State Road 1502) | +2,240
* National Geodetic Vertical Datum.
+ North American Vertical Datum.
# Depth in feet above ground.
ADDRESSES
Eastern Band of Cherokee Indians
Maps are available for inspection at Ginger Lynn Welch Complex, 810 Aquoni Road, Cherokee, North Carolina.
Town of Andrews
Maps are available for inspection at Andrews Town Hall, 1101 Main Street, Andrews, North Carolina.
Town of Murphy
Maps are available for inspection at Murphy Town Hall, 5 Wofford Street, Murphy, North Carolina.
Unincorporated Areas of Cherokee County
Maps are available for inspection at Cherokee County Mapping Department/GIS, County Courthouse, 39 Peachtree Street, Suite 104, Murphy, North Carolina.
Clay County, North Carolina and Incorporated Areas
Docket No.: FEMA-D-7822
Blair Creek | At the confluence with Hiwassee River | +1,800 | Clay County (Unincorporated Areas).
| Approximately 0.4 mile upstream of NC-69 | +1,840
Brasstown Creek | At the confluence with Hiwassee River | +1,587 | Clay County (Unincorporated Areas).
| Approximately 400 feet upstream of West Road (State Road 1111) | +1,713
Chatuga Lake | Entire shoreline within Clay County | +1,929 | Clay County (Unincorporated Areas).
Coleman Creek | At the confluence with Hyatt Mill Creek | +1,934 | Clay County (Unincorporated Areas).
| Approximately 800 feet upstream of the confluence with Hyatt Mill Creek | +1,934
Crawford Creek | At the confluence with Brasstown Creek | +1,698 | Clay County (Unincorporated Areas).
| Approximately 1,430 feet upstream of Pine Ridge Drive | +1,837
Downing Creek | At the confluence with Hiwassee River | +1,796 | Clay County (Unincorporated Areas).
| Approximately 0.4 mile upstream of Lawrence Smith Road (State Road 1324) | +1,959
Eagle Fork Creek | At the confluence with Shooting Creek | +2,045 | Clay County (Unincorporated Areas).
| Approximately 200 feet upstream of Sally Gap Road | +2,211
Fires Creek | At the confluence with Hiwassee River | +1,724 | Clay County (Unincorporated Areas).
| Approximately 1.5 miles upstream of Fires Creek Road (State Road 1300) | +1,834
Giesky Creek | At the confluence with Shooting Creek | +1,981 | Clay County (Unincorporated Areas).
| Approximately 1,530 feet upstream of Sally Gap Road | +2,172
Gumlog Creek | At the confluence with Brasstown Creek | +1,669 | Clay County (Unincorporated Areas).
| Approximately 300 feet upstream of Pine Log Road (State Road 1104) | +1,703
Hiwassee River | Approximately 500 feet downstream of Old Highway 64W (State Road 1100) | +1,590 | Clay County (Unincorporated Areas), Town of Hayesville.
| Approximately 1,380 feet upstream of the confluence of Hiwassee River Tributary 1 | +1,885
Hiwassee River Tributary 1 | At the confluence with Hiwassee River | +1,811 | Clay County (Unincorporated Areas).
| Approximately 0.5 mile upstream of Chatuge Dam Road (State Road 1146) | +1,811
Hothouse Branch | At the confluence with Shooting Creek | +1,943 | Clay County (Unincorporated Areas).
| Approximately 0.7 mile upstream of Fred and Carl Lane | +2,015
Hyatt Mill Creek | At the confluence with Hiwassee River | +1,802 | Clay County (Unincorporated Areas).
| At the confluence of Coleman Creek | +1,934
Licklog Creek | Approximately 200 feet downstream of U.S. Highway 64 | +1,929 | Clay County (Unincorporated Areas).
| Approximately 450 feet upstream of Peckerwood Road (State Road 1328) | +2,005
Muskrat Branch | At the confluence with Shooting Creek and Thompson Creek | +2,183 | Clay County (Unincorporated Areas).
| Approximately 1.5 miles upstream of the confluence with Shooting Creek and Thompson Creek | +2,429
Nantahala River | At the Clay/Macon County boundary | +3,013 | Clay County (Unincorporated Areas).
| Approximately 450 feet downstream of Thunderstruck Lane | +3,089
Pinelong Creek | At the confluence with Brasstown Creek | +1,641 | Clay County (Unincorporated Areas).
| Approximately 1.0 mile upstream of Royal Oaks Trail | +1,914
Qually Creek | At the confluence with Hiwassee River | +1,788 | Clay County (Unincorporated Areas).
| Approximately 0.5 mile upstream of Ali Drive | +1,837
Shooting Creek | Approximately 800 feet upstream of Old Highway 64E | +1,929 | Clay County (Unincorporated Areas).
| Approximately 90 feet upstream of Old Highway 64E | +2,183
Sweetwater Creek | At the confluence with Hiwassee River | +1,686 | Clay County (Unincorporated Areas).
| Approximately 1.2 miles upstream of U.S. Highway 64 | +1,844
Thompson Creek | At the confluence with Shooting Creek | +2,183 | Clay County (Unincorporated Areas).
| Approximately 0.5 mile upstream of Muskrat Creek Road (State Road 1173) | +2,283
Town Creek | At the confluence with Hiwassee River | +1,793 | Clay County (Unincorporated Areas), Town of Hayesville.
| Approximately 0.5 mile upstream of Anderson Street | +1,831
Tusquitee Creek | At the confluence with Hiwassee River | +1,783 | Clay County (Unincorporated Areas).
| Approximately 2.0 miles upstream of Chairmaker Drive | +2,214
Winchester Creek | At the confluence with Brasstown Creek | +1,671 | Clay County (Unincorporated Areas).
| Approximately 1,090 feet upstream of West Gum Log Road (State Road 1107) | +1,716
* National Geodetic Vertical Datum.
+ North American Vertical Datum.
# Depth in feet above ground.
ADDRESSES
Clay County
Maps are available for inspection at Clay County Building, 33 Main Street, Hayesville, North Carolina.
Town of Hayesville
Maps are available for inspection at Hayesville Town Hall, 235 Sanderson Street, Hayesville, North Carolina.

(Catalog of Federal Domestic Assistance No. 97.022, “Flood Insurance.”)

Dated: June 2, 2008.
Michael K. Buckley,
Deputy Assistant Administrator for Mitigation, Department of Homeland Security, Federal Emergency Management Agency.

[FR Doc. E8-13191 Filed 6-11-08; 8:45 am]

BILLING CODE 9110-12-P